GENERAL SERVICES ADMINISTRATION

[OMB Control No. 3090-0246; Docket No. 2025-0001; Sequence No. 1]

Submission for OMB Review; General Services Administration Acquisition Regulation; Packing List Clause

AGENCY: Office of Acquisition Policy, General Services Administration (GSA).

ACTION: Notice.

SUMMARY: Under the provisions of the Paperwork Reduction Act of 1995, GSA invites the public to comment on a request to review and approve an extension of a previously approved information collection requirement regarding the packing list clause.

DATES: Submit comments on or before August 14, 2025.

ADDRESSES: Written comments and recommendations for this information collection should be sent within 30 days of publication of this notice to www.reginfo.gov/public/do/PRAMain. Find this particular information collection by selecting “Currently under Review- Open for Public Comments” or by using the search function.

FOR FURTHER INFORMATION CONTACT: Mr. Thomas O'Linn, Procurement Analyst, at telephone 202-445-0390, or via email at at GSARpolicy@gsa.gov.

SUPPLEMENTARY INFORMATION:

A. Purpose

General Services Administration Acquisition Regulation (GSAR) clause 552.211-77, Packing List, and its Alternate I require a contractor to include a packing list or other suitable document for purposes of providing order and shipping information. In addition to information contractors normally include within packing lists and other suitable documents, the identification of the cardholder name, telephone number, and the term “Credit Card” is required when a Governmentwide commercial purchase card is being used as the method of payment.

B. Annual Reporting Burden

Estimated Respondents: 14,342.

Estimated Responses per Respondent: 7.

Total Estimated Annual Responses: 100,396.

Estimated Hours per Response: .05.

Total Estimated Burden Hours: 5,020.

Total Estimated Annual Cost to the public: 146,981.

C. Public Comments

A 60-day notice was published in the Federal Register at 90 FR 19205, on May 6, 2025. A single comment was received from one respondent; however, the comment did not change the estimate of the burden.

Comment on the Need and Utility of the Information Collection: The respondent expressed their support for the collection and mentioned the information collected is helpful.

Response: The respondents' support is appreciated.

Obtaining Copies of Proposals: Requesters may obtain a copy of the information collection documents from the GSA Regulatory Secretariat Division, by calling 202-501-4755 or emailing GSARegSec@gsa.gov.

Jeffrey A. Koses,
Senior Procurement Executive, Office of Acquisition Policy, Office of Government-wide Policy.

[FR Doc. 2025-13200 Filed 7-14-25; 8:45 am]

BILLING CODE 6820-61-P